DEPARTMENT OF TRANSPORTATION

Federal Aviation Administration

14 CFR Part 39

[Docket No. FAA-2007-0109; Directorate Identifier 2007-NM-235-AD]

RIN 2120-AA64

Airworthiness Directives; Lockheed Model 382, 382B, 382E, 382F, and 382G Series Airplanes

AGENCY: Federal Aviation Administration (FAA), Department of Transportation (DOT).

ACTION: Notice of proposed rulemaking (NPRM); reopening of comment period.

SUMMARY: This document announces a reopening of the comment period for the above-referenced NPRM. The NPRM proposed the adoption of a new airworthiness directive for all Lockheed Model 382, 382B, 382E, 382F, and 382G series airplanes. That NPRM invites comments concerning the proposed requirements for revising the FAA-approved maintenance inspection program to include inspections that will give no less than the required damage tolerance rating for each structural significant item (SSI), doing repetitive inspections to detect cracks of all SSIs, and repairing cracked structure. This reopening of the comment period is necessary to provide additional opportunity for public comment on the proposed requirements of that NPRM.

DATES: We must receive comments on this proposed AD by March 31, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Lockheed Martin Aeronautics Company, 86 South Cobb Drive, Marietta, Georgia 30063.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Carl Gray, Aerospace Engineer, Airframe Branch, ACE-117A, FAA, Atlanta Aircraft Certification Office, One Crown Center, 1895 Phoenix Boulevard, suite 450, Atlanta, Georgia 30349; telephone (770) 703-6131; fax (770) 703-6097.

SUPPLEMENTARY INFORMATION: We proposed to amend 14 CFR part 39 with a notice of proposed rulemaking (NPRM) for an AD for all Lockheed Model 382, 382B, 382E, 382F, and 382G series airplanes. The NPRM was published in the Federal Register on November 14, 2007 (72 FR 64005). The NPRM proposed to require revising the FAA-approved maintenance inspection program to include inspections that will give no less than the required damage tolerance rating for each structural significant item (SSI), doing repetitive inspections to detect cracks of all SSIs, and repairing cracked structure. The NPRM action invites comments on the overall regulatory, economic, environmental, and energy aspects of the proposed AD.

Actions Since NPRM Was Issued

Since we issued the NPRM, we have received one comment. Lynden Air Cargo requests an additional 45 days to comment on the NPRM. Lynden Air Cargo states that it needs more time to:

• Review Lockheed Martin Model 382, 382B, 382E, 382F, and 382G Series Aircraft Service Manual Publication (SMP), Supplemental Structural Inspection Document, SMP 515-C-SSID, Change 1, dated September 10, 2007 (referred to the NPRM as the appropriate source of service information for accomplishing the proposed actions). Lynden Air Cargo states that the service information was not made available by the Type Certificate holder until December 18, 2007.

• Comment about the conclusion in the Regulatory Evaluation (located in the docket) that the NPRM does not affect intrastate aviation in Alaska. Lynden Air Cargo states that its military operations in Alaska account for some 4.5 million pounds of lift per year.

• Review service difficulty reports to validate the presence of an unsafe condition relating to the affected airplanes. Lynden Air Cargo states that it does not appear that the requirements of the NPRM are based upon any unsafe condition related to a particular type design.

It is our intent to address the identified unsafe condition in a timely manner with minimum disruption to industry. We encourage interested parties to continue to evaluate the NPRM and to submit additional comments with more specific details concerning issues that we may need to evaluate before finalizing decisions on the proposal. We have determined that such input may be beneficial before adoption of a final rule. As a result, we have decided to reopen the comment period for 45 days to receive additional comments.

No part of the regulatory information has been changed; therefore, the NPRM is not republished in the Federal Register.

Comments Due Date

We must receive comments on this AD action by March 31, 2008.

Issued in Renton, Washington, on February 7, 2008.
Kevin Hull,
Acting Manager, Transport Airplane Directorate, Aircraft Certification Service.

[FR Doc. E8-2742 Filed 2-12-08; 8:45 am]

BILLING CODE 4910-13-P